NATIONAL SCIENCE FOUNDATION

National Science Board; Committee on Programs and Plans (CPP)

Date and Time: June 30, 2005, 11 a.m.-12 noon (e.t.).

Place: National Science Foundation, 4201 Wilson Boulevard, Arlington, VA 22230, Public Meeting Room 130, http://www.nsf.gov/nsb.

Status: This meeting will be open to the public.

Matters To Be Considered: Thursday, June 30, 2005—Open Session.

Open Session (11 a.m. to 12 noon).

1. Review of NSF draft Cyber Infrastructure Vision document.

2. Discussion and comments.

3. Next steps for developing a Board-approved High Performance Computing Strategy for NSF.

For information contact: Dr. Michael P. Crosby, Executive Officer and NSB Office Director, (703) 292-7000, http://www.nsf.gov/nsb.

Michael P. Crosby,
Executive Officer and NSB Office Director.

[FR Doc. 05-12407 Filed 6-20-05; 8:56 am]

BILLING CODE 7555-01-P